DEPARTMENT OF JUSTICE

Notice of Lodging of Consent Decree

Notice is hereby given that on October 11, 2007, a proposed Consent Decree in United States v. Maritime Logitics, Inc., et al., Civil Action No. C07-5172 JSW (N.D. Cal.), was lodged with the United States District Court for the Northern District of California. The proposed Consent Decree resolves claims arising from a January 31, 2005 incident in which the vessel P/C ALBION sank in the waters of the Monterey Bay National Marine Sanctuary and discharged oil. Under the Consent Decree, the defendants will pay $1,207,064.00 to the Coast Guard's Oil Spill Liability Trust Fund for costs incurred, and $392,936.00 to the National Oceanic and Atmospheric Administration for costs incurred and for damages. In exchange, the United States provides a covenant not to sue for claims pertaining to the Incident under, inter alia, the Oil Pollution Act, the Comprehensive Environmental Response, Compensation, and Liability Act, and the National Marine Sanctuaries Act.

The Department of Justice will receive for a period of thirty (30) days from the date of this publication comments relating to the proposed Consent Decree. Comments should be addressed to the Assistant Attorney General, Environment and National Resources Division, and either e-mailed to pubcomment-ees.enrd@usdoj.gov or mailed to P.O. Box 7611, U.S. Department of Justice, Washington, DC 20044-7611, and should refer to United States v. Maritime Logitics, Inc., et al., D.J. Ref. 90-5-1-1-09113.

The proposed Consent Decree may be examined at the Office of the United States Attorney, 450 Golden Gate Avenue, San Francisco, California 94102. During the public comment period, the Consent Decree may also be examined on the following Department of Justice Web site, http://www.usdoj.gov/enrd/Consent_Decrees.html. A copy of the proposed Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $4.75 (25 cents per page reproduction cost) payable to the “U.S. Treasury” or, if by e-mail or fax, forward a check in that amount to the Consent Decree Library at the stated address.

Henry S. Friedman,
Assistant Section Chief, Environmental Enforcement Section, Environment and Natural Resources Division.

[FR Doc. 07-5125 Filed 10-16-07; 8:45 am]

BILLING CODE 4410-15-M